DEPARTMENT OF DEFENSE

Department of the Air Force

Notice of 2026 Public Interface Control Working Group (PICWG) and Open Public Forum

AGENCY: Space Systems Command, United States Space Force, Department of the Air Force, Department of Defense.

ACTION: Meeting notice.

SUMMARY: This notice informs the public that the Space Systems Command (SSC), System Delta 831 (SYD 831) NAVWAR & Position, Navigation, and Timing (PNT) will host the 2026 Public Interface Control Working Group (PICWG) and Open Public Forum on June 16, 2026 for the following NAVSTAR GPS public documents: IS-GPS-200 (Navigation User Interfaces), IS-GPS-705 (User Segment L5 Interfaces), IS-GPS-800 (User Segment L1C Interface), and ICD-GPS-870 (NAVSTAR Next Generation GPS Control Segment (OCX) to User Support Community Interface).

DATES: Open to the public Tuesday, June 16, 2026, from 8:30 a.m. to 4:00 p.m. (Pacific Time).

ADDRESSES: This virtual meeting can be accessed via the following URLs and dial-in numbers:

MS Teams https://dod.teams.microsoft.us/l/meetup-join/19%3adod%3ameeting_aa4774f66ff44ad6b5f2099643665195%40thread.v2/0?context=%7b%22Tid%22%3a%228331b18d-2d87-48ef-a35f-ac8818ebf9b4%22%2c%22Oid%22%3a%2287a32064-cfb0-4c32-867b-0f7cf2dd1434%22%7d.

Meeting ID: 993 250 433 301 | Passcode: Gt2o45Ea.

Dial in by phone: +1 410-874-6750 United States, Odenton | Phone conference ID: 764 408 612#.

If you wish to attend, please place a request via the for further information contact listed below.

FOR FURTHER INFORMATION CONTACT: Mr. Daniel Stevenson, PNT Systems Delta 831/S5 SEIT Director, by email at SSC.CG.PICWG@spaceforce.mil or by phone at 310-653-3531.

SUPPLEMENTARY INFORMATION: The purpose of this meeting is to update the public on proposed GPS public document changes, collect issues/comments for analysis and adjudicate subject comments for possible incorporation into future GPS public document revisions. The 2026 Public Interface Control Working Group and Open Forum are open to the general public.

Comments to the proposed changes will be collected, catalogued, and adjudicated for potential inclusion. If accepted, these changes will be processed through the government change management process for IS-GPS-200, IS-GPS-705, IS-GPS-800, and ICD-GPS-870. All comments must be submitted in a Comments Resolution Matrix. This form along with the proposed change notices, public document baseline documents and the official meeting notice are posted at: https://www.gps.gov/meetings/icwg/public-interface-control-working-group-picwg-2026.

Please submit comments to the Space Systems Command GPS Requirements Section (SSC/SYD 831/S5) workflow at SSC.CG.PICWG@spaceforce.mil by March 13, 2026. Special topics may also be considered for the Public Open Forum. If you wish to present a special topic, please submit your topic title, briefer name, and organization by April 1, 2026.

For those who would like to attend and participate online, we request that you register no later than May 29, 2026. Please send the registration information to SSC.CG.PICWG@spaceforce.mil, providing your name, organization, telephone number, email address, and country of citizenship. Meeting is being held virtually. Additional logistical details can be found below.

Crystle C. Poge,
Air Force Federal Register Liaison.

[FR Doc. 2026-02691 Filed 2-10-26; 8:45 am]

BILLING CODE 3911-44-P